INTERNATIONAL TRADE COMMISSION

Sunshine Act Meeting

AGENCY HOLDING THE MEETING: United States International Trade Commission.

TIME AND DATE: April 14, 2000 at 10 a.m.

PLACE: Room 101, 500 E Street S.W., Washington, DC 20436, Telephone: (202) 205-2000.

STATUS: Open to the public.

MATTERS TO BE CONSIDERED:

1. Agenda for future meeting: None.

2. Minutes.

3. Ratification List.

4. Inv. Nos. 731-TA-868-871 (Preliminary) (Steel Wire Rope from China, India, Malaysia, and Thailand)—briefing and vote. (The Commission will transmit its determination to the Secretary of Commerce on April 17, 2000.)

5. Outstanding action jackets: None.

In accordance with Commission policy, subject matter listed above, not disposed of at the scheduled meeting, may be carried over to the agenda of the following meeting.

By order of the Commission.
Issued: March 24, 2000.
Donna R. Koehnke,
Secretary.

[FR Doc. 00-7995 Filed 3-28-00; 2:05 pm]

BILLING CODE 7020-02-M